DEPARTMENT OF ENERGY

International Energy Agency Meeting

AGENCY: Department of Energy.

ACTION: Notice of Meeting.

SUMMARY: The Industry Advisory Board (IAB) to the International Energy Agency (IEA) will meet on March 23, 2000, at the headquarters of the IEA in Paris, France in connection with a meeting of the IEA's Standing Group on Emergency Questions (SEQ).

FOR FURTHER INFORMATION CONTACT: Samuel M. Bradley, Assistant General Counsel for International and National Security Programs, Department of Energy, 1000 Independence Avenue, SW, Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on March 23, 2000, beginning at approximately 8:45 a.m. The purpose of this notice is to permit attendance by representatives of U.S. company members of the IAB at a meeting of the IEA's Standing Group on Emergency Questions (SEQ), which is scheduled to be held at the IEA on March 23, including a preparatory encounter among company representatives from approximately 8:45 a..m. to 9 am.

The Agenda for the preparatory encounter among company representatives is to elicit views regarding items on the SEQ's Agenda. The Agenda for the SEQ meeting is under the control of the SEQ. It is expected that the SEQ will adopt the following Agenda:

1. Adoption of the Agenda

2. Approval of the Summary Record of the 97th Meeting

3. SEQ Work Program

—The Year 2000 Work Program of the SEQ

—The Year 2001 Work Program of the SEQ

4. Special Session on Tanker Market Developments and Oil Security Issues

5. Policy and Legislative Developments in Member Countries

—Recent Developments in the EPCA

—Developments in other IEA Countries

6. Follow-up to the Seminar on Oil Stock Strategy and the Disruption Simulation Exercise

7. Emergency Response Reviews

—Review of Poland

—Publication: The Emergency Response Potential of IEA Countries in 2000

—Draft Report to the Governing Board on the Completed Emergency Response Review Cycle

—Schedule of Reviews

8. Report on IEA'S Y2K Response Activities

9. Current IAB Activities

10. Report to the SEQ by the Working Group on Petroleum Coke

11. Emergency Reserve Issues

—Emergency Reserve and Net Import Situation of IEA Countries on October 1, 1999

—Emergency Reserve and Net Import Situation of IEA Countries on January 1, 2000

—Draft Report to the Governing Board

—Emergency Reserve Situation of IEA Candidate Countries

—Unavailable Stocks

12. Emergency Data System and Related Questions

—Monthly Oil Statistics October 1999

—Monthly Oil Statistics November 1999

—Monthly Oil Statistics December 1999

—Base Period Final Consumption Q498/Q399

—Base Period Final Consumption Q199/Q499

—Quarterly Oil Forecast—Current Quarter Q12000

13. Emergency Reference Guide

—Update of Emergency Contact Points List

14. Other Business

—IEA/ASCOPE Seminar on Oil Security Issues

—Dates of September and November Meetings

—Website version of Emergency Response Guide

As provided in section 252(c)(1)(A)(ii) of the Energy Policy and Conservation Act (42 U.S.C. 6272(c)(1)(A)(ii)), this meeting is open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, D.C., March 10, 2000.
Mary Anne Sullivan,
General Counsel.

[FR Doc. 00-6636 Filed 3-15-00; 8:45 am]

BILLING CODE 6450-01-P